DEPARTMENT OF THE INTERIOR

National Park Service

National Register of Historic Places; Notification of Pending Nominations

Nominations for the following properties being considered for listing in the National Register were received by the National Park Service before February 17, 2001. Pursuant to section 60.13 of 36 CFR part 60 written comments concerning the significance of these properties under the National Register criteria for evaluation may be forwarded to the National Register, National Park Service, 1849 C St. NW, NC400, Washington, DC 20240. Written comments should be submitted by March 26, 2001.

Carol D. Shull,
Keeper of the National Register Of Historic Places.

COLORADO

Denver County

Overland Cotton Mill, 1314 W. Evans Ave., Denver, 01000288

FLORIDA

Broward County

Gilliam, Sam, House, 11 SW 15th St., Ft. Lauderdale, 01000289

Sarasota County

Blackburn Point Bridge, Blackburn Point Rd. at Gulf Intracoastal Waterway, Osprey, 01000290

NEW YORK

Columbia County

Copake Grange Hall, Empire Rd., S of Old Rte 22, Copake, 01000291

Dutchess County

Maple Grove, 301 S. Rd., US 9, Poughkeepsie, 01000293

Monroe County

Emmanuel Presbyterian Church, Jefferson Ave. at 9 Shelter St., Rochester, 01000295

Warren County

Hamlet of Warrensburgh Historic District, (Warrensburgh, New York MPS) Roughly along Schroon River and the Camp Echo Lake, Warrenburgh, 01000292

Westchester County

Homestead, The, 36 Mead St., Waccabuc, 01000294

Yates County

Garrett Memorial Chapel, Skyline Dr., Bluff Point, 01000296

SOUTH CAROLINA

Bamberg County

Denmark High School, N. Palmetto Ave., Denmark, 01000297

Orangeburg County

Cope Depot, Cope Rd., Cope, 01000298

WISCONSIN

Iowa County

Thomas Stone Barn, 7777 WI 18-151, Brigham, 01000299

WYOMING

Carbon County

Willis House, 621 Winchell Ave., Encampment, 01000300

[FR Doc. 01-5937 Filed 3-8-01; 8:45 am]

BILLING CODE 4310-70-P